DEPARTMENT OF ENERGY

Federal Energy Regulatory Commission

[Project No. 184-244]

El Dorado Irrigation District; Notice of Availability of Environmental Assessment

In accordance with the National Environmental Policy Act of 1969, as amended, and the Federal Energy Regulatory Commission's (Commission) regulations, 18 CFR part 380 (Order No. 486, 52 FR 47897), the Office of Energy Projects has reviewed an application to amend the El Dorado Project license filed by El Dorado Irrigation District (licensee). The licensee proposes constructing an earthen stability buttress, raising the crest of the dam, and upgrading appurtenant facilities. No Federal lands would be involved in the proposed action. The project is located on the South Fork American River adjacent to the unincorporated community of Pollock Pines in El Dorado, County, California.

An environmental assessment (EA) has been prepared for Commission staff's review of the proposed action, containing staff's analysis of the proposed action and concluding that approval of the proposal, with staff's recommended measures, would not constitute a major federal action significantly affecting the quality of the human environment. The EA is available for electronic review and reproduction at the Commission's Public Reference Room, located at 888 First Street NE., Room 2A, Washington, DC 20426. The EA may also be viewed on the Commission's Web site at http://www.ferc.gov using the “eLibrary” link. Enter the docket number (P-184) in the docket number field to access the document. For assistance, contact FERC Online Support at FERCOnlineSupport@ferc.gov or toll-free at (866) 208-3372 or for TTY, (202) 502-8659.

Any comments on the EA should be filed by November 27, 2015, and addressed to Kimberly D. Bose, Secretary, Federal Energy Regulatory Commission, 888 First Street NE., Room 1-A, Washington, DC 20426. Please reference the project name and project number (P-184-244) on all comments filed. Comments may be filed electronically via the Internet in lieu of paper. The Commission strongly encourages electronic filings. See 18 CFR 385.2001(a)(1)(iii) and the instructions on the Commission's Web site under the “eFiling” link. For further information, please contact CarLisa Linton at (202) 502-8416 or Carlisa.linton-peters@ferc.gov.

Dated: October 26, 2015.
Kimberly D. Bose,
Secretary.

[FR Doc. 2015-27804 Filed 10-30-15; 8:45 am]

BILLING CODE 6717-01-P